DEPARTMENT OF HOMELAND SECURITY

Federal Emergency Management Agency

[FEMA-2006-0006]

Re-Establishment of the National Urban Search and Rescue Response System Advisory Committee

AGENCY: Federal Emergency Management Agency (FEMA), Department of Homeland Security (DHS).

ACTION: Committee Management; Notice of Committee Re-Establishment.

SUMMARY: The Secretary of the Department of Homeland Security has determined that the re-establishment of the National Urban Search and Rescue Response System Advisory Committee is necessary and in the public interest in connection with the performance of duties of the National Urban Search and Rescue Response System. This determination follows consultation with the Committee Management Secretariat, General Services Administration.

Name of Committee: National Urban Search and Rescue Response System Advisory Committee.

DATES: If you desire to submit comments, they must be submitted by May 8, 2006.

ADDRESSES: You may submit comments, identified by Docket Number FEMA-2006-0006 by one of the following methods:

Federal eRulemaking Portal: http://www.regulations.gov. Follow the instructions for submitting comments.

E-mail: FEMA-RULES@dhs.gov. Include Docket Number FEMA-2006-0006 in the subject line of the message.

Fax: 202-646-4536.

Mail/Hand Delivery/Courier: Rules Docket Clerk, Office of General Counsel, Federal Emergency Management Agency, Room 840, 500 C Street, SW., Washington, DC 20472.

Instructions: All Submissions received must include the agency name and docket number (FEMA-2006-0006). Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

Docket: For access to the docket to read background documents or comments received, go to the Federal eRulemaking Portal at http://www.regulations.gov. Submitted comments may also be inspected at FEMA, Office of General Counsel, 500 C Street, SW., Room 840, Washington, DC 20472.

FOR FURTHER INFORMATION CONTACT: Michael Tamillow, Chief, Urban Search and Rescue Response System, Federal Emergency Management Agency, 500 C Street, SW., Washington, DC 20472, tel.: (202) 646-2549, email: mike.tamillow@dhs.go.

Purpose and Objective: The Committee will advise the Director of the Federal Emergency Management Agency on programmatic, policy, operational, administrative, and technological issues within DHS that affect the readiness and operational effectiveness of the National Urban Search and Rescue Response System, and other related issues.

Balanced Membership Plans: The Committee will consist of not more than 15 members selected for their demonstrated professional and personal qualifications, and on their direct and continuing experience with urban search and rescue activities and organizations. The Committee membership is a balanced mix of sponsoring organizations by geographical region, management, labor, and the Operations Group, which is the principal work group through which all functional work groups report to the Advisory Committee.

Duration: Two years, subject to renewal.

Responsible DHS Officials: William Lokey, Operations Branch Chief, Response Division, Federal Emergency Management Agency, Department of Homeland Security, 500 C Street, SW., Washington DC 20472, tel. (202) 646-7085, (e-mail) William.Lokey@dhs.gov.

Dated: April 3, 2006.
R. David Paulison,
Acting Director, Federal Emergency Management Agency, Department of Homeland Security.

[FR Doc. E6-5076 Filed 4-6-06; 8:45 am]

BILLING CODE 4410-10-P